DEPARTMENT OF COMMERCE

International Trade Administration

[C-469-004]

Revocation of Countervailing Duty Order: Stainless Steel Wire Rod From Spain

AGENCY: Import Administration, International Trade Administration, Department of Commerce.

ACTION: Notice of revocation of countervailing duty order: stainless steel wire rod from Spain.

SUMMARY: Pursuant to section 751(c) of the Tariff Act of 1930, as amended (“the Act”), the United States International Trade Commission (“the Commission”) determined that revocation of the countervailing duty order on stainless steel wire rod from Spain is not likely to lead to continuation or recurrence of material injury to an industry in the United States within a reasonably foreseeable time, 65 FR 45409 (July 21, 2000). Therefore, pursuant to section 751(d)(2) of the Act and 19 CFR 351.222(i)(1), the Department of Commerce (“the Department”) is revoking the countervailing duty order on stainless steel wire rod from Spain. Pursuant to section 751(c)(6)(A)(iv) of the Act and 19 CFR 351.222(i)(2) the effective date of revocation is January 1, 2000.

Effective Date: January 1, 2000.

FOR FURTHER INFORMATION CONTACT: For Further Information Contact: Martha V. Douthit or James P. Maeder, Office of Policy for Import Administration, International Trade Administration, U.S. Department of Commerce, 14th Street and Constitution Ave., NW., Washington, DC 20230; telephone: (202) 482-5050 or (202) 482-3330, respectively.

Background: On July 1, 1999, the Department initiated and the Commission instituted, sunset reviews of the countervailing duty order on stainless steel wire rod from Spain, pursuant to section 751(c) of the Act. See 64 FR 35588 and 64 FR 35697. As a result of the review, the Department found that revocation of the countervailing duty order would be likely to lead to continuation or recurrence of a countervailable subsidy. See Final Results of Expedited Sunset Review: Stainless Steel Wire Rod From Spain, 65 FR 6166 (February 8, 2000).

On July 21, 2000, the Commission determined, pursuant to section 751(c) of the Act, that revocation of the countervailing duty order on stainless steel wire rod from Spain would not likely lead to continuation or recurrence of material injury to an industry in the United States within a reasonably foreseeable time. See 65 FR 45409 (July 21, 2000), and USITC Pub. 3321, Investigation No. 701-TA-178 (Review)(July 2000).

Scope: Imports covered by this order are shipments of stainless steel wire rod (“SSWR”) from Spain, which includes coiled, semi-finished, hot-rolled stainless steel products of approximately round solid cross section, not under 0.20 inch nor over 0.74 inch in diameter, whether or not tempered or treated or partly manufactured, from Spain. This merchandise is currently classifiable under item numbers 7221.00.0020 and 7221.00.0040 of the Harmonized Tariff Schedule (“HTS”) of the United States. The HTS item numbers are provided for convenience and customs purposes. The written description remains dispositive.

Determination: As a result of the determination by the Commission that revocation of this countervailing duty order is not likely to lead to continuation or recurrence of material injury to an industry in the United States, the Department, pursuant to section 751(d)(2) of the Act and 19 CFR 351.222(i)(1), is revoking the countervailing duty order on stainless steel wire rod from Spain. Pursuant to section 751(c)(6)(A)(iv) of the Act and 19 CFR 351.222(i)(2)(ii), this revocation is effective January 1, 2000.

The Department will instruct the U.S. Customs Service to discontinue the suspension of liquidation and collection of cash deposit rates on entries of the subject merchandise entered or withdrawn from warehouse on or after January 1, 2000 (the effective date). The Department will complete any pending administrative review of this order and will conduct administrative reviews of subject merchandise entered prior to the effective date of revocation in response to appropriately filed requests for review.

Dated: July 27, 2000.
Troy H. Cribb.
Acting Assistant Secretary for Import Administration.

[FR Doc. 00-19546 Filed 8-1-00; 8:45 am]

BILLING CODE 3510-DS-P